OFFICE OF PERSONNEL MANAGEMENT

Submission for OMB Clearance and Review; Comment Request for a Revision of a Currently Approved Collection: OPM Form 1300, Presidential Management Fellows Program Online Application and Resume Builder, OMB No. 3206-0082

AGENCY: Office of Personnel Management.

ACTION: Notice.

SUMMARY: In accordance with the Paperwork Reduction Act of 1995 (Pub. L. 104-13, May 22, 1995), this notice announces that the Office of Personnel Management (OPM) submitted a request to the Office of Management and Budget (OMB) for clearance and review of a revision of a currently approved collection for the OPM Form 1300, Presidential Management Fellows Program Online Application and Resume Builder. Approval of this form is necessary to facilitate the timely nomination, selection and placement of Presidential Management Fellows finalists in Federal agencies.

On November 21, 2003, the President signed Executive Order 13318, “modernizing” the Presidential Management Intern (PMI) Program, in keeping with his emphasis on the strategic management of the Federal Government's human capital. The Executive order renamed the PMI Program to the Presidential Management Fellows (PMF) Program to better reflect its high standards, rigor, and prestige. It is designed to attract to the Federal service outstanding graduate students from a wide variety of academic disciplines who demonstrate an exceptional ability for, as well as a clear interest in and commitment to, leadership in the analysis and management of public policies and programs. The Executive order charges the Director of OPM with developing, managing, and evaluating the PMF Program and with providing for an orderly transition from the PMI Program to the PMF Program.

The present OPM Form 1300, PMF Online Application and Resume Builder, is an online electronic form. Graduate students must fill out the form, including resume information, and submit it along with the school nomination official's information. With prior OMB approval, the online application and resume builder replaced the previous scan-form used prior to 2004, and OPM transferred the form identifier of OPM Form 1300 to the online version. An alternative paper-based application will be made available for those applicants with disabilities and/or inability to access the Internet. As a result of automating the OPM Form 1300 for the 2003/2004 open season last year, OPM met Government Paperwork Elimination Act (GPEA) requirements to automate this form by October 2003.

The 60-day Federal Register Notice was published on March 26, 2004 [FR Doc. 04-6791] to request comments. No comments were received. The following changes have been made to the application: (1) Revised all content to reflect new name of PMF Program, (2) increased functionality as a result of feedback from stakeholders, and (3) revised formatting for user-friendliness and efficiency.

We estimate 5,000 applications will be received and processed in the 2004/2005 open season for PMF applications. We estimate students will need two hours to complete the online application and resume builder and electronically submit it to their nominating school official. In addition, we estimate school nominating officials will need one-half hour to receive, review and render a decision on the student's application for nomination into the PMF program. The annual estimated burden for nominees is 10,000 hours and 2,500 hours for school nominating officials, for a total of 12,500 hours.

For copies of this proposal, contact Mary Beth Smith-Toomey at (202) 606-8358, fax (202) 418-3251 or e-mail to mbtoomey@opm.gov. Please include your complete mailing address with your request.

DATES: Comments on this proposal should be received within thirty (30) calendar days from the date of this publication.

ADDRESSES: Send or deliver comments to:

U.S. Office of Personnel Management, ATTN: Rob Timmins, 1900 E Street, NW., Room 1425, Washington, DC 20415-9820, Email: rob.timmins@opm.gov

and

Office of Management and Budget, Office of Information and Regulatory Affairs, ATTN: Joseph F. Lackey, OPM Desk Officer, New Executive Office Building, NW., Room 10235, Washington, DC 20503.

Office of Personnel Management.
Kay Coles James,
Director.

[FR Doc. 04-18110 Filed 8-6-04; 8:45 am]

BILLING CODE 6325-38-U